DEPARTMENT OF THE INTERIOR

Bureau of Indian Affairs

[189A2100DD/AAKC001030/A0A501010.999900 253G]

Advisory Board for Exceptional Children

AGENCY: Bureau of Indian Affairs, Interior.

ACTION: Notice of meeting.

SUMMARY: The Bureau of Indian Education (BIE) is announcing that the Advisory Board for Exceptional Children will hold a public meeting. The purpose of the meeting is to meet the requirements of the Individuals with Disabilities Education Act of 2004 (IDEA) for Indian children with disabilities.

DATES: The Advisory Board will meet Saturday, September 22, 2018 from 8 a.m. to 5 p.m. Mountain Time. A public comment period is scheduled from 11:30 a.m. to 12 p.m. Mountain Time. In order for written comments to be considered by the Advisory Board during the meeting, comments must be received by September 17, 2018.

ADDRESSES: The meeting will be held at the 1011 Indian School Rd. NW, Large Conference Room on the 3rd floor in Albuquerque, NM 87104. Telephone number: (480) 777-7986. Those wishing to participate via conference call may do so by calling in to telephone number 1-888-417-0376, passcode 1509140.

FOR FURTHER INFORMATION CONTACT: Jennifer Davis, Designated Federal Officer, Bureau of Indian Education, 2600 N Central Ave. Suite 800, Phoenix, Arizona 85004, telephone number (480) 777-7986; fax number (602) 265-0293 Attention: Jennifer Davis, DFO; or email Jennifer.davis@bie.edu.

SUPPLEMENTARY INFORMATION: The Advisory Board was established to advise the Secretary of the Interior, through the Assistant Secretary—Indian Affairs, on the needs of Indian children with disabilities. The meeting is open to the public. During the meeting the Advisory Board will discuss the priorities, advice, and recommendations that will be included in the 2018 Annual Report; there will be an opportunity for public comment; and the Advisory Board will finalize the 2018 Annual Report. Those wishing to make comments during the meeting may do so or can send written comments to the DFO (see FOR FURTHER INFORMATION CONTACT). In order for written comments to be considered by the Advisory Board during the meeting, comments must be received by September 17, 2018. In order to accommodate all those wishing to make an oral presentation, comments (both in person and via call-in) may be limited for time depending on the number of participants. Before including your address, phone number, email address, or other personal identifying information in a written comment, you should be aware that your entire comment—including your personal identifying information—may be made publicly available at any time. While you can ask us in your comment to withhold your personal identifying information from public view, we cannot guarantee that we will be able to do so.

Authority: 5 U.S.C. Appendix 5; 20 U.S.C. 1400 et seq.

Dated: August 31, 2018.
Tara Sweeney,
Assistant Secretary—Indian Affairs.

[FR Doc. 2018-19426 Filed 9-6-18; 8:45 am]

BILLING CODE 4337-15-P